DEPARTMENT OF THE INTERIOR

Bureau of Indian Affairs

Indian Gaming

AGENCY: Bureau of Indian Affairs, Interior.

ACTION: Notice of Tribal-State Gaming Compact Amendment taking effect between the Ho-Chunk Nation and the State of Wisconsin.

SUMMARY: Pursuant to section 11 of the Indian Gaming Regulatory Act of 1988 (IGRA), Public Law 100-497, 25 U.S.C. 2710, the Secretary of the Interior shall publish, in the Federal Register, notice of the approved Tribal-State compacts for the purpose of engaging in Class III gaming activities on Indian lands. The Assistant Secretary—Indian Affairs, Department of the Interior, through her delegated authority, is publishing notice that the Second Amendment to the Gaming Compact of 1992 between the Ho-Chunk Nation and the State of Wisconsin executed on April 25, 2003 are considered approved. By the terms of IGRA, the Second Amendment to the Compacts are considered approved, but only to the extent that the Second Amendments are consistent with the provisions of IGRA.

The Second Amendment expands the scope of gaming activities authorized under the Compact, removes limitations on wager limits, removes limitations on the number of permitted gaming devices, extends the terms of the compact to an indefinite term, subject to re-opener clauses, institutes an entirely new dispute resolution provision, replaces the sovereign immunity provision, and modifies the revenue-sharing provision of the Compact.

EFFECTIVE DATE: July 3, 2003.

FOR FURTHER INFORMATION CONTACT: George T. Skibine, Director, Office of Indian Gaming Management, Bureau of Indian Affairs, Washington, DC 20240, (202) 219-4066.

Dated: June 19, 2003.
Woodrow W. Hooper, Jr.,
Acting Deputy Assistant Secretary for Management.

[FR Doc. 03-16824 Filed 7-2-03; 8:45 am]

BILLING CODE 4310-4N-M